ENVIRONMENTAL PROTECTION AGENCY

[FRL OP-OFA-172]

Environmental Impact Statements; Notice of Availability

Responsible Agency: Office of Federal Activities, General Information 202-564-5632 or https://www.epa.gov/nepa.

Weekly receipt of Environmental Impact Statements (EIS)

Filed March 24, 2025 10 a.m. EST Through March 31, 2025 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20250034, Draft Supplement, FERC, TX, Rio Grande LNG Terminal and Rio Bravo Pipeline Project, Comment Period Ends: 05/19/2025, Contact: Office of External Affairs 866-208-3372.

EIS No. 20250035, Draft Supplement, FERC, TX, Texas LNG Brownsville LLC's Texas LNG Project, Comment Period Ends: 05/19/2025, Contact: Office of External Affairs 866-208-3372.

EIS No. 20250036, Draft Supplement, GSA, AZ, Expansion and Modernization of the Raul Hector Castro Land Port of Entry and Proposed Commercial Land Port of Entry in Douglas, Arizona, Comment Period Ends: 05/19/2025, Contact: Osmahn Kadri 415-522-3617.

EIS No. 20250037, Final, FERC, AL, R.L. Harris Hydroelectric Project, Review Period Ends: 05/05/2025, Contact: Office of External Affairs 866-208-3372.

Dated: March 31, 2025.
Nancy Abrams,
Associate Director, Office of Federal Activities.

[FR Doc. 2025-05805 Filed 4-3-25; 8:45 am]

BILLING CODE 6560-50-P